DEPARTMENT OF TRANSPORTATION

Federal Aviation Administration

14 CFR Part 39

[Docket No. FAA-2009-0463; Directorate Identifier 2008-NM-065-AD]

RIN 2120-AA64

Airworthiness Directives; BAE Systems (Operations) Limited (Jetstream) Model 4101 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

A failure mode has been identified that can lead to loss of a nose wheel. Any combination of excessive wear and/or adverse tolerances on the axle inner cone, outer cone or wheel hub splined sleeve cones can result in the loss of the critical gap between the inner flange face of the wheel outer cone and the axle end face. If this gap is lost, it can result in the wheel having free play along the length of the axle. This condition, if not corrected, can result in breakage of the wheel nut lock plate leading to unscrewing of the wheel retention nut and subsequent separation of the nose wheel from the landing gear axle.

* * * * *

The proposed AD would require actions that are intended to address the unsafe condition described in the MCAI.

DATES: We must receive comments on this proposed AD by June 19, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov, or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2009-0463; Directorate Identifier 2008-NM-065-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0036, dated February 22, 2008 (referred to after this as “the MCAI”), to correct an unsafe condition for the specified products. The MCAI states:

A failure mode has been identified that can lead to loss of a nose wheel. Any combination of excessive wear and/or adverse tolerances on the axle inner cone, outer cone or wheel hub splined sleeve cones can result in the loss of the critical gap between the inner flange face of the wheel outer cone and the axle end face. If this gap is lost, it can result in the wheel having free play along the length of the axle. This condition, if not corrected, can result in breakage of the wheel nut lock plate leading to unscrewing of the wheel retention nut and subsequent separation of the nose wheel from the landing gear axle.

For the reasons described above, this AD requires repetitive inspections of the nose landing gear to ensure that the wheels are correctly retained and, depending on findings, replacement of worn parts.

Required actions include inspecting the lock plate for damage (including excessive wear) and cracking, and replacing the lock plate with a new or serviceable part if any damage or cracking is found; inspecting the wheel nut for damage, and replacing any damaged nut with a new or serviceable part; and measuring the gap between the inner flange of the outer cone (at each of the three sections) and the end face of the axle to determine if parts are worn, and replacing worn parts with new or serviceable parts.

You may obtain further information by examining the MCAI in the AD docket.

Relevant Service Information

BAE Systems (Operations) Limited has issued Service Bulletin J41-32-086, dated June 27, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 7 products of U.S. registry. We also estimate that it would take about 4 work-hours per product to comply with the basic requirements of this proposed AD. The average labor rate is $80 per work-hour. Based on these figures, we estimate the cost of the proposed AD on U.S. operators to be $2,240, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE Systems (Operations) Limited (Formerly British Aerospace Regional Aircraft): Docket No. FAA-2009-0463; Directorate Identifier 2008-NM-065-AD.

Comments Due Date

(a) We must receive comments by June 19, 2009.

Affected ADs

(b) None.

Applicability

(c) This AD applies to BAE Systems (Operations) Limited Model Jetstream 4101 airplanes, certificated in any category, all models, all serial numbers.

Subject

(d) Air Transport Association (ATA) of America Code 32: Landing Gear.

Reason

(e) The mandatory continuing airworthiness information (MCAI) states:

A failure mode has been identified that can lead to loss of a nose wheel. Any combination of excessive wear and/or adverse tolerances on the axle inner cone, outer cone or wheel hub splined sleeve cones can result in the loss of the critical gap between the inner flange face of the wheel outer cone and the axle end face. If this gap is lost, it can result in the wheel having free play along the length of the axle. This condition, if not corrected, can result in breakage of the wheel nut lock plate leading to unscrewing of the wheel retention nut and subsequent separation of the nose wheel from the landing gear axle.

For the reasons described above, this AD requires repetitive inspections of the nose landing gear to ensure that the wheels are correctly retained and, depending on findings, replacement of worn parts.

Required actions include inspecting the lock plate for damage (including excessive wear) and cracking, and replacing the lock plate with a new or serviceable part if any damage or cracking is found; inspecting the wheel nut for damage, and replacing any damaged nut with a new or serviceable part; and measuring the gap between the inner flange of the outer cone (at each of the three sections) and the end face of the axle to determine if parts are worn, and replacing worn parts with new or serviceable parts.

Actions and Compliance

(f) Unless already done, do the following actions for the left and right nose wheel attachments to the axle.

(1) Within 3 months after the effective date of this AD, inspect the lock plate for damage (including excessive wear) and cracking, inspect the wheel nut for damage, and measure the gap between the inner flange of the outer cone and the end face of the axle to determine if parts are worn, in accordance with paragraph 2.B. of BAE Systems (Operations) Limited Service Bulletin J41-32-086, dated June 27, 2007.

(2) If, during any inspection required by paragraph (f)(1) of this AD, any damage or cracking of the lock plate is found, before further flight, replace the lock plate with a new or serviceable part, in accordance with paragraph 2.B. of BAE Systems (Operations) Limited Service Bulletin J41-32-086, dated June 27, 2007.

(3) If, during any inspection required by paragraph (f)(1) of this AD, any damage of the wheel nut is found, before further flight, replace the wheel nut with a new or serviceable part, in accordance with paragraph 2.B. of BAE Systems (Operations) Limited Service Bulletin J41-32-086, dated June 27, 2007.

(4) If, during any measurement required by paragraph (f)(1) of this AD, the measured gap size is found to be less than 0.002 inch (0.05 mm), before further flight, replace any worn parts with new or serviceable parts, in accordance with paragraph 2.B. of BAE Systems (Operations) Limited Service Bulletin J41-32-086, dated June 27, 2007. Within 3,000 flight hours after doing the replacement, repeat the actions for the left and right nose wheel attachments to the axle that are required by paragraph (f)(1) of this AD.

(5) If, during any measurement required by paragraph (f)(1) of this AD, the measured gap size is equal to or more than 0.002 inch (0.05 mm), repeat the actions for the left and right nose wheel attachments to the axle that are required by paragraph (f)(1) of this AD thereafter at intervals not to exceed the value indicated in Table 1 of this AD, depending on the exact finding. If, during any repeat inspection, the finding has changed to another value (see Table 1), adjust the new interval accordingly.

Table 1—Repeat Inspection Intervals
Measured gap size | Repeat inspection interval in flight hours
0.002 inch to 0.005 inch inclusive (0.05/0.13 mm) | 500 flight hours.
Greater than 0.005 inch to less than or equal to 0.010 inch (0.13/0.25 mm) | 1,000 flight hours.
Greater than 0.010 inch to less than or equal to 0.020 inch (0.25/0.51 mm) | 2,000 flight hours.
Greater than 0.020 inch (0.51 mm) | 3,000 flight hours.

Note 1: Replacement of parts does not constitute terminating action for the inspection requirements of this AD.

FAA AD Differences

Note 2: This AD differs from the MCAI and/or service information as follows: Although BAE Systems (Operations) Limited Service Bulletin J41-32-086, dated June 27, 2007, does not specify an inspection following the replacement of the left and right nose wheel attachment to the axle for measurements less than 0.002 inch, paragraph (f)(4) of this AD requires an inspection within 3,000 flight hours after replacing the part.

Other FAA AD Provisions

(g) The following provisions also apply to this AD:

(1) Alternative Methods of Compliance (AMOCs): The Manager, International Branch, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2008-0036, dated February 22, 2008; and BAE Systems (Operations) Limited Service Bulletin J41-32-086, dated June 27, 2007; for related information.

Issued in Renton, Washington, on May 7, 2009.
Ali Bahrami,
Manager, Transport Airplane Directorate, Aircraft Certification Service.

[FR Doc. E9-11710 Filed 5-19-09; 8:45 am]

BILLING CODE 4910-13-P